DEPARTMENT OF DEFENSE

Office of the Secretary

[Docket ID: DoD-2024-HA-0075]

Proposed Collection; Comment Request

AGENCY: The Office of the Assistant Secretary of Defense for Health Affairs (OASD(HA)), Department of Defense (DoD).

ACTION: 60-Day information collection notice.

SUMMARY: In compliance with the Paperwork Reduction Act of 1995, the Defense Health Agency (DHA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 9, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: Joint Outpatient Experience Surveys (JOES); OMB Control Number 0720-JOES.

Needs and Uses: The core objective of the JOES surveys is to systematically assess Military Health System (MHS) beneficiaries' perceptions of their outpatient care quality when received directly at Military Treatment Facilities and through civilian network providers reimbursed by the MHS. Data insights guide efforts to optimize care delivery across the MHS. The JOES survey suite leverages industry best practices to regularly measure patient satisfaction across the facets of outpatient care. Data-driven insights from this comprehensive assessment inform systematic quality improvement efforts for healthcare delivery optimization across the MHS. JOES instruments include: JOES, JOES-CAHPS, JOES-Dental, JOES-Ambulatory, JOES Walk-in Contraceptive Clinic, and JOES-Emergency Department. The JOES-CAHPS surveys adhere to industry protocols outlined by the Clinician & Group Consumer Assessment of Healthcare Providers and Systems (CG-CAHPS) for measuring patient satisfaction.

Affected Public: Individuals or households.

Annual Burden Hours: 25,833.

Number of Respondents: 310,000.

Responses per Respondent: 1.

Annual Responses: 310,000.

Average Burden per Response: 5 minutes.

Frequency: On occasion.

Dated: July 2, 2024.
Aaron T. Siegel,
Alternate OSD Federal Register Liaison Officer, Department of Defense.

[FR Doc. 2024-15043 Filed 7-8-24; 8:45 am]

BILLING CODE 6001-FR-P